DEPARTMENT OF THE INTERIOR

Bureau of Reclamation

[DOI-2020-0010; RR81300000, 212R5065C6, RX.59189825.2008813]

Privacy Act of 1974; System of Records

AGENCY: Bureau of Reclamation, Interior.

ACTION: Rescindment of a system of records notice.

SUMMARY: The Department of the Interior (DOI) is issuing a public notice of its intent to rescind one Bureau of Reclamation (Reclamation) Privacy Act system of records notice, INTERIOR/WBR-45, Equipment, Supply, and Service Contracts. This system was superseded by two Department-wide system of records notices; however, it was never formally rescinded. This rescindment will eliminate an unnecessary duplicate notice and promote the overall streamlining and management of DOI Privacy Act systems of records.

DATES: These changes take effect on June 7, 2021.

ADDRESSES: You may send comments identified by docket number [DOI-2020-0010] by any of the following methods:

• Federal eRulemaking Portal: http://www.regulations.gov. Follow the instructions for sending comments.

• Email: DOI_Privacy@ios.doi.gov. Include docket number [DOI-2020-0010] in the subject line of the message.

• U.S. Mail or Hand-Delivery: Teri Barnett, Departmental Privacy Officer, U.S. Department of the Interior, 1849 C Street NW, Room 7112, Washington, DC 20240.

Instructions: All submissions received must include the agency name and docket number [DOI-2020-0010]. All comments received will be posted without change to http://www.regulations.gov, including any personal information provided.

Docket: For access to the docket to read background documents or comments received, go to http://www.regulations.gov.

You should be aware your entire comment including your personal identifying information, such as your address, phone number, email address, or any other personal identifying information in your comment, may be made publicly available at any time. While you may request to withhold your personal identifying information from public review, we cannot guarantee we will be able to do so.

FOR FURTHER INFORMATION CONTACT: Regina Magno, Associate Privacy Officer, Bureau of Reclamation, P.O. Box 25007, Denver, CO 80225, privacy@usbr.gov or (303) 445-3326.

SUPPLEMENTARY INFORMATION: Pursuant to the provisions of the Privacy Act of 1974, as amended, 5 U.S.C. 552a, Reclamation is rescinding the system of records notice, INTERIOR/WBR-45, Equipment, Supply, and Service Contracts, from its inventory. This system was used for the administration of contracts for equipment, supplies, materials, and services. During a review of Reclamation's system of records notices, it was determined that this system is no longer needed since the records are covered by published Department-wide system of records notices, INTERIOR/DOI-86, Accounts Receivable: FBMS, 73 FR 43772 (July 28, 2008), and INTERIOR/DOI-87, Acquisition of Goods and Services: FBMS, 73 FR 43766 (July 28, 2008). Therefore, Reclamation is rescinding this system of records notice to avoid duplication of existing system of records notices in accordance with the Office of Management and Budget Circular A-108, Federal Agency Responsibilities for Review, Reporting, and Publication under the Privacy Act.

Rescinding the INTERIOR/WBR-45 notice will have no adverse impacts on individuals as the records are covered by and maintained under existing published DOI system of records notices. This rescindment will promote the overall streamlining and management of DOI Privacy Act systems of records. This notice hereby rescinds the INTERIOR/WBR-45, Equipment, Supply, and Service Contracts, system of records notice as identified below.

SYSTEM NAME AND NUMBER:

INTERIOR/WBR-45, Equipment, Supply, and Service Contracts.

HISTORY:

INTERIOR/WBR-45, Equipment, Supply, and Service Contracts, 64 FR 43714 (August 11, 1999); modification published at 73 FR 20949 (April 17, 2008).

Teri Barnett,
Departmental Privacy Officer, Department of the Interior.

[FR Doc. 2021-11805 Filed 6-4-21; 8:45 am]

BILLING CODE 4332-90-P